DEPARTMENT OF ENERGY

Energy Information Administration

Proposed Agency Information Collection

AGENCY: U.S. Energy Information Administration (EIA), Department of Energy.

ACTION: Notice.

SUMMARY: EIA submitted an information collection request for extending, with changes, the Oil and Gas Reserves Survey Program pursuant to the Paperwork Reduction Act of 1995. The information collection requests a three-year extension of Form EIA-64A, Annual Report of the Origin of Natural Gas Liquids Production; Form EIA-23L, Annual Report of Domestic Oil and Gas Reserves; and Form EIA-23S, Annual Survey of Domestic Oil and Gas Reserves, Summary Level Report. The information collected is used to develop accurate national and regional estimates of proved reserves of domestic crude oil and natural gas.

DATES: Comments regarding this collection must be received on or before April 11, 2019. If you anticipate any difficulties in submitting your comments by the deadline, contact the DOE Desk Officer at (202) 395-0710.

ADDRESSES: Written comments should be sent to the DOE Desk Officer: Brandon DeBruhl, Office of Information and Regulatory Affairs, Office of Management and Budget, New Executive Office Building, Room 10102, 735 17th Street NW, Washington, DC, 20503. Brandon_F_Debruhl@omb.eop.gov; And to Steven G. Grape, U.S. Energy Information Administration, Mail Stop EI-24, Forrestal Building 1000 Independence Avenue SW, Washington, DC 20585, Steven.Grape@eia.gov.

FOR FURTHER INFORMATION CONTACT: Steven G. Grape, (202) 586-1868, email at Steven.Grape@eia.gov.

SUPPLEMENTARY INFORMATION: This information collection request contains:

(1) OMB No. 1905-0057;

(2) Information Collection Request Title: Oil and Gas Reserves System;

(3) Type of Request: Three-year extension with changes.

(4) Purpose: Forms EIA-23L and EIA-23S provide accurate national and regional data on the proved reserves of crude oil, natural gas, and natural gas liquids (NGL). Form EIA-64A provides data that are used to estimate natural gas plant liquids production and reserves by state and federal offshore regions.

(4a) Changes to Information Collection:

Changes to Form EIA-23L:

Coalbed methane is deleted as a response category choice for Type Code reported in section 2. Fields previously classified as coalbed methane will be merged into the conventional gas category.

Changes to Form EIA-64A:

Collect the total outlet volume of residue natural gas and the volume of residue natural gas sent to a pipeline.

Collect the amount of electricity consumed annually at the natural gas plant (a growing percentage of natural gas processing plants are 100% electrically-powered rather than consuming any of the natural gas received for processing as fuel, because of air quality restrictions imposed on sources of combustion emissions).

Collect an annual total of natural gas liquids by components or products produced at the natural gas processing plant in Section 3 of Form EIA-64A, rather than requesting only total plant NGL volume reported in Line 4.8.

Delete Item 5.0 Gas Shrinkage Resulting from Natural Gas

Liquids Extracted. Operators no longer need to calculate their own estimate of the volumes of gas shrinkage in millions of cubic feet (MMCF) resulting from the removal of natural gas liquids from the natural gas received at the plant. The shrinkage volumes will now be calculated automatically by EIA using the component data from Section 3.

(5) Annual Estimated Number of Respondents: 1,600 total respondents:

Form EIA-23Lconsist of 500 respondents.

Form EIA-23S consist of 500 respondents.

Form EIA-64A consist of 600 respondents.

(6) Annual Estimated Number of Responses: 1,600 total responses.

(7) Annual Estimated Number of Burden Hours: 28,800 hours.

(8) Annual Estimated Reporting and Recordkeeping Cost Burden: The cost of burden hours to the respondents is estimated to be $ 2,131,776 (28,800 burden hours times $74.02 per hour). EIA estimates that there are no additional costs to respondents associated with the surveys other than the cost associated with the burden hours.

Statutory Authority: 15 U.S.C. 772(b).

Signed in Washington, DC, on March 5, 2019.
Nanda Srinivasan,
Director, Office of Survey Development and Statistical Integration, U.S. Energy Information Administration.

[FR Doc. 2019-04441 Filed 3-11-19; 8:45 am]

BILLING CODE 6450-01-P